DEPARTMENT OF TRANSPORTATION

Federal Aviation Administration

[Summary Notice No. PE-2003-27]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Denise Emrick (202) 267-5174, Sandy Buchanan-Sumter (202) 267-7271, or Timothy R. Adams (202) 267-8033, Office of Rulemaking (ARM-1), Federal Aviation Administration, 800 Independence Avenue, SW., Washington, DC 20591.

This notice is published pursuant to 14 CFR 11.85 and 11.91.

Issued in Washington, DC, on May 7, 2003.
Donald P. Byrne,
Assistant Chief Counsel for Regulations.

Dispositions of Petitions

Docket No.: FAA-2003-15027.

Petitioner: Liberty Aviation Service, LLC.

Section of 14 CFR Affected: 14 CFR 135.143(c)(2).

Description of Relief Sought/Disposition: To permit Liberty Aviation Service, LLC, to operate certain aircraft under part 135 without a TSO-C112 (Mode S) transponder installed on those aircraft. Grant, 4/29/2003, Exemption No. 8035

Docket No.: FAA-2001-9232.

Petitioner: Blatti Aviation, Inc.

Section of 14 CFR Affected: 14 CFR 135.143(c)(2).

Description of Relief Sought/Disposition: To permit Blatti Aviation, Inc., to operate certain aircraft under part 135 without a TSO-C112 (Mode S) transponder installed on those aircraft. Grant, 4/28/2003, Exemption No. 6957B

Docket No.: FAA-2001-9141.

Petitioner: Business Aviation Courier.

Section of 14 CFR Affected: 14 CFR 135.143(c)(2).

Description of Relief Sought/Disposition: To permit Business Aviation Courier to operate certain aircraft under part 135 without a TSO-C112 (Mode S) transponder installed on those aircraft. Grant, 4/28/2003, Exemption No. 7488A

Docket No.: FAA-2001-8861.

Petitioner: MCIWORLDCOM Management Company, Inc.

Section of 14 CFR Affected: 14 CFR 91.611.

Description of Relief Sought/Disposition: To permit MCIWORLDCOM Management Company, Inc. (MCI), to conduct ferry flights with one engine inoperative in MCI's Falcon Trijet airplane, Model No. 900, without obtaining a special flight permit for each flight. Grant, 4/29/2003, Exemption No. 5332F

Docket No.: FAA-2002-11840.

Petitioner: Davis Aerospace Technical High School.

Section of 14 CFR Affected: 14 CFR 135.251, 135.255, and 135.353, and appendices I and J to part 121.

Description of Relief Sought/Disposition: To permit Davis Aerospace Technical High School and Back Pilots of America to conduct local sightseeing flights at the Detroit City Airport, for its annual open house on May 18, 2003, for compensation or hire, without complying with certain anti-drug and alcohol misuse prevention requirements of part 135. Grant, 4/29/2003, Exemption No. 8036

Docket No.: FAA-2003-14795.

Petitioner: Eagle Helicopter, Inc., d.b.a. Kachina Aviation.

Section of 14 CFR Affected: 14 CFR 135.152(a).

Description of Relief Sought/Disposition: To permit Kachina Aviation to operate two Bell 212 helicopters (registration Nos. N215KA and N73HJ) under part 135 without each helicopter being equipped with an approved digital flight data recorder. Grant, 4/28/2003, Exemption No. 8037

Docket No.: FAA-2000-8222.

Petitioner: Mesa Airlines, Inc.

Section of 14 CFR Affected: 14 CFR 121.434(c)(1)(ii).

Description of Relief Sought/Disposition: To permit Mesa Airlines, Inc., to substitute a qualified and authorized check airman for an FAA inspector to observe a qualifying pilot in command who is completing initial or upgrade training specified in § 121.424 during at least one flight leg that includes a takeoff and a landing. Grant, 4/29/2003, Exemption No. 7495A

Docket No.: FAA-2001-9350.

Petitioner: TWA Airlines LLC, d.b.a. American Airlines.

Section of 14 CFR Affected: 14 CFR 121.434(c)(1)(ii).

Description of Relief Sought/Disposition: To permit TWA Airlines, LLC, doing business as American Airlines, to substitute a qualified and authorized check airman for an FAA inspector to observe a qualifying pilot in command who is completing initial or upgrade training specified in § 121.424 during at least one flight leg that includes a takeoff and landing. Grant, 4/29/2003, Exemption No. 7479A

Docket No.: FAA-2000-7991.

Petitioner: American Trans Air, Inc., d.b.a. ATA.

Section of 14 CFR Affected: 14 CFR § 121.434(c)(1)(ii).

Description of Relief Sought/Disposition: To permit ATA to substitute a qualified and authorized check airman for an FAA inspector to observe a qualifying pilot in command who is completing initial or upgrade training specified in § 121.424 during at least one flight leg that includes a takeoff and landing. Grant, 4/29/2003, Exemption No. 7491A

Docket No.: FAA-20001-9512.

Petitioner: Peninsula Airways, Inc., d.b.a. PenAir.

Section of 14 CFR Affected: 14 CFR 121.344(a).

Description of Relief Sought/Disposition: To permit PenAir to operate its two Fairchild Aerospace SA227-DC Metro 23 aircraft without being equipped with an approved digital flight data recorder. Grant, 4/28/2003, Exemption No. 7603A

Docket No.: FAA-2003-14497.

Petitioner: Red Baron Flyers, Inc.

Section of 14 CFR Affected: 14 CFR 135.251, 135.255, and 135.353, and appendices I and J to part 121.

Description of Relief Sought/Disposition: To permit Red Baron Flyers, Inc., to conduct local sightseeing flights at the Houston County Airport, Caledonia, Minnesota, on June 29, 2003, for compensation or hire, without complying with certain anti-drug and alcohol misuse prevention requirements of part 135. Grant, 4/28/2003, Exemption No. 8034

Docket No.: FAA-2002-13930.

Petitioner: Pinnacle Airlines, Inc., d.b.a. Northwest Airlink.

Section of 14 CFR Affected: 14 CFR 121.434(c)(1)(ii).

Description of Relief Sought/Disposition: To permit Northwest Airlink to substitute a qualified and authorized check airman for an FAA inspector to observe a qualifying pilot in command who is completing initial or upgrade training specified in § 121.424 during at least one flight leg that includes a takeoff and a landing. Grant, 4/29/2003, Exemption No. 7504A

Docket No.: FAA-2002-11992.

Petitioner: Kent State University Flight Operations.

Section of 14 CFR Affected: 14 CFR 135.251, 135.255, and 135.353, and appendices I and J to part 121.

Description of Relief Sought/Disposition: To permit Kent State University Flight Operations to conduct local sightseeing flights at the Kent State University Airport, Stow, Ohio, on September 6 and 7, 2003, for compensation or hire, without complying with certain anti-drug and alcohol misuse prevention requirements of part 135. Grant, 4/28/2003, Exemption No. 8033

Docket No.: FAA-2001-9513.

Petitioner: Big Sky Transportation Co., d.b.a. Big Sky Airlines.

Section of 14 CFR Affected: 14 CFR 121.344(a).

Description of Relief Sought/Disposition: To permit Big Sky Airlines to operate its six Fairchild Aerospace SA-227-DC Metro 23 aircraft after August 20, 2001, without each aircraft being equipped with an approved digital flight data recorder. Grant, 4/30/2003, Exemption No. 7596A

Docket No.: FAA-2001-9166.

Petitioner: North American Airlines, Inc.

Section of 14 CFR Affected: 14 CFR 119.67(a)(1).

Description of Relief Sought/Disposition: To permit Edward F. Dascoli to act as the Director of Operations for North American Airlines, Inc., without holding an airline transport pilot certificate. Grant, 4/30/2003, Exemption No. 7510A

[FR Doc. 03-11782 Filed 5-12-03; 8:45 am]

BILLING CODE 4910-13-P